DEPARTMENT OF THE INTERIOR

Fish and Wildlife Service

[FWS-R2-ES-2017-N159; FXES11140200000-189-FF02ENEH00]

American Burying Beetle Habitat Conservation Plan and Low-Effect Screening Form; Fixico Point-of-Delivery to Weleetka, Hughes, Okfuskee, and Seminole Counties, OK

AGENCY: Fish and Wildlife Service, Interior.

ACTION: Notice of availability of documents and request for comments.

SUMMARY: We, the U.S. Fish and Wildlife Service, announce the availability of several documents related to an incidental take permit (ITP) application under the Endangered Species Act of 1973, as amended. American Electric Power applied for the requested ITP, which would be in effect for a three-year period in Hughes, Okfuskee, and Seminole Counties, Oklahoma. If granted, the permit would authorize American burying beetle incidental take resulting from rebuilding two portions of the Fixico point of delivery to Weleetka electric transmission line. The documents available for comment include the low-effect screening form that supports a categorical exclusion under the National Environmental Policy Act of 1969, a draft low-effect habitat conservation plan, and the ITP application.

DATES: Comments: We are accepting comments on the documents listed above in the SUMMARY section. To ensure consideration, written comments must be received or postmarked on or before March 8, 2018. Any comments we receive after the closing date may not be considered in this action's final decisions.

ADDRESSES: Obtaining documents:

• Internet: You may obtain copies of the documents related to this ITP application on the internet from the Service's website at http://www.fws.gov/southwest/es/Oklahoma/.

• U.S. mail: A limited number of CD-ROM and printed copies of the draft documents are available, by request, from the Field Supervisor, Oklahoma Ecological Services Field Office, 9014 East 21st Street, Tulsa, OK 74129; telephone 918-382-4500. Please note that your request is in reference to the AEP LEHCP (TE55026C-0).

• In-person: Copies of the draft low-effect screening form and draft habitat conservation plan also are available for public inspection and review at the following locations, by appointment and written request only, 8 a.m. to 4:30 p.m.:

○ Department of the Interior, Natural Resources Library, 1849 C. Street NW, Washington, DC 20240.

○ U.S. Fish and Wildlife Service, 500 Gold Avenue SW, Room 6034, Albuquerque, NM 87102.

○ U.S. Fish and Wildlife Service, 9014 East 21st Street, Tulsa, OK 74129; by calling 918-382-4500; or faxing 918-581-7467.

Persons wishing to review the application may obtain a copy by writing to the Regional Director, U.S. Fish and Wildlife Service, P.O. Box 1306, Room 6034, Albuquerque, NM 87103, Attention: Branch Chief, Environmental Review.

Comment submission: You may submit written comments on the low-effect screening form, the draft low-effect habitat conservation plan, and the ITP application by one of the following methods:

• Electronically: fw2_hcp_permits@fws.gov.

• By hard copy: Submit by U.S. mail or hand-deliver to: U.S. Fish and Wildlife Service, 9014 East 21st Street, Tulsa, OK 74129; or faxing 918-581-7467.

We request that you send comments by only the methods described above.

FOR FURTHER INFORMATION CONTACT: Jonna Polk, Field Supervisor, U.S. Fish and Wildlife Service, 9014 East 21st Street, Tulsa, OK 74129; or by telephone at 918-382-4500.

SUPPLEMENTARY INFORMATION: Under the National Environmental Policy Act of 1969 (NEPA) (42 U.S.C. 4321, et seq.), we advise the public that:

1. We, the U.S. Fish and Wildlife Service (Service), have gathered the information necessary to determine impacts related to potentially issuing an incidental take permit (ITP) and have determined the proposed action qualifies as a low-effect habitat conservation plan (HCP) and is categorically excluded from the NEPA process; and

2. American Electric Power (AEP; the Applicant) has developed and proposes to implement its draft HCP, as part of the ITP application, which describes the measures the Applicant has agreed to take to minimize and mitigate the effects of American burying beetle incidental take to the maximum extent practicable under the Endangered Species Act of 1973 (ESA), section 10(a)(1)(B), as amended (16 U.S.C. 1531, et seq.).

The requested permit, which would be in effect for a three-year period, if granted, would authorize American burying beetle (Nicrophorus americanus) incidental take as a result of rebuilding two portions of the Fixico point of delivery (POD) to Weleetka electric transmission line. The proposed incidental take may occur along 21.5 miles of the existing Fixico POD to Weleetka transmission line in Hughes, Okfuskee, and Seminole Counties, OK, as a result of activities associated with the Applicant's construction (existing pole removal and new pole installation) and maintenance activities. Such actions may require disturbance within potential American burying beetle habitat. American Electric Power has proposed to mitigate the impacts to 124.416 acres of suitable American burying beetle habitat, including 124.4 acres of temporary impacts and 0.016 acres of permanent change. These habitat acres will be mitigated in perpetuity according to Service-approved mitigation ratios through purchasing credits at an approved conservation bank. Additionally, avoidance and minimization measures, including limiting clearing in temporary work areas, relieving soil compaction, and revegetating temporary and permanent cover change impacts with native vegetation will be implemented after construction is completed.

The ESA, section 9 and its implementing regulations prohibit taking fish and wildlife species listed as threatened or endangered under the ESA, section 4. However, the ESA, section 10(a) authorizes us to issue permits to take listed wildlife species where such take is incidental to, and not the purpose of, otherwise lawful activities and where the applicant meets certain statutory requirements.

Comments Publicly Availability

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority: We provide this notice under the ESA, section 10(c) (16 U.S.C. 1531, et seq.) and its implementing regulations (50 CFR 17.22) and NEPA (42 U.S.C. 4321, et seq.) and its implementing regulations (40 CFR 1506.6).

Joy E. Nicholopoulos,
Acting Regional Director, Southwest Region, Albuquerque, New Mexico.

[FR Doc. 2018-02340 Filed 2-5-18; 8:45 am]

BILLING CODE 4333-15-P